DEPARTMENT OF JUSTICE

[OMB Number 1121-0381]

Agency Information Collection Activities; Proposed eCollection eComments Requested; Revision of a Previously Approved Collection; Juvenile Facility Census Program (JFCP)

AGENCY: Office of Justice Programs, Department of Justice.

ACTION: 30-Day notice.

SUMMARY: The National Institute of Justice, Office of Justice Programs, Department of Justice (DOJ), will be submitting the following information collection request to the Office of Management and Budget (OMB) for review and approval in accordance with the Paperwork Reduction Act of 1995.

DATES: Comments are encouraged and will be accepted for 30 days until December 29, 2025.

FOR FURTHER INFORMATION CONTACT: If you have comments especially on the estimated public burden or associated response time, suggestions, or need a copy of the proposed information collection instrument with instructions or additional information, please contact: Benjamin Adams, Supervisory Social Science Analyst, National Institute of Justice, 999 North Capitol Street NE, Washington, DC 20531 (email: benjamin.adams@usdoj.gov; telephone: 202-598-6493).

SUPPLEMENTARY INFORMATION: The proposed information collection was previously published in the Federal Register on May 21, 2024, 89 FR 44709, allowing a 60-day comment period. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number [1121-0381]. This information collection request may be viewed at www.reginfo.gov. Follow the instructions to view Department of Justice, information collections currently under review by OMB.

DOJ seeks PRA authorization for this information collection for two (2) years. OMB authorization for an ICR cannot be for more than three (3) years without renewal. The DOJ notes that information collection requirements submitted to the OMB for existing ICRs receive a month-to-month extension while they undergo review.

Overview of This Information Collection

1. Type of Information Collection: Revision to currently approved collection.

2. Title of the Form/Collection: Juvenile Facility Census Program (JFCP).

3. Agency form number, if any, and the applicable component of the Department of Justice sponsoring the collection: The form numbers are CJ-14 (Youth Characteristics Module) and CJ-15 (Facility Operations Module). The applicable components within the Department of Justice are the National Institute of Justice and the Office of Juvenile Justice and Delinquency Prevention, in the Office of Justice Programs.

4. Affected public who will be asked or required to respond, as well as a brief abstract: State, local and tribal governments, individuals or households, and Private Sector-for or not for profit institutions.

Abstract: This request for clearance of the Juvenile Facility Census Program (JFCP) will combine two previously, separately cleared data collections: the Census of Juveniles in Residential Placement (CJRP, OMB # 1121-0218) and the Juvenile Residential Facility Census (JRFC, OMB # 1121-0219). The JFCP collects information from all secure and nonsecure residential placement facilities that house persons younger than age 21 who are being held as a result of some contact with the juvenile justice system for a law violation. This encompasses both status offenses and delinquency offenses and includes youth who are either temporarily detained by the court or committed after adjudication for an offense. The JFCP consolidates the content of the CJRP and JRFC into a single, unified program. It collects general information on facility characteristics and the number of youth housed, and includes two rotating content modules that are administered separately during a two-year collection cycle: the Youth Population module and the Facility Operations module. The Youth Population module collects detailed information on individual youth housed in facilities, including demographic details, placement characteristics, and length of stay. The Facility Operations module collects information on resident services, facility features, and operations. The information gathered in these national collections will be used in published reports and statistics. The reports will be made available to the U.S. Congress, Executive Office of the President, practitioners, researchers, students, the media, others interested in juvenile residential facilities, and the general public via the OJP agency websites. The two data collections are being consolidated the attain cost savings and reduce respondent burden.

5. Obligation to Respond: Voluntary.

6. Total Estimated Number of Respondents: The total estimated respondents is 1,636 for each module for each year.

7. Estimated Time per Respondent: It takes an average of 6 hours to complete the JFCP. The total burden is 9,816, including the two rotating content modules that are administered separately during a two-year collection cycle. The Youth Characteristics module takes an average of 4 hours to complete. The total burden for the Youth Characteristics module is 6,544 hours. The Facility Operations module takes an average of 2 hours to complete. The total burden for the Facility Operations module is 3,272 hours.

8. Frequency: The JFCP is a biennial data collection with two content modules administered separately during a two-year collection cycle.

9. Total Estimated Annual Time Burden: The average annual burden is 4,908 or 9,816 total hours for the two-year collection cycle.

10. Total Estimated Annual Other Costs Burden: The estimated annual cost for JFCP is $1,142,115. The estimated cost for one collection cycle is $2,284,230.

If additional information is required, contact: Darwin Arceo, Department Clearance Officer, Enterprise Portfolio Management, Justice Management Division, United States Department of Justice, Two Constitution Square, 145 N Street NE, 4W-218 Washington, DC 20530.

Dated: November 25, 2025.
Darwin Arceo,
Department Clearance Officer for PRA, U.S. Department of Justice.

[FR Doc. 2025-21575 Filed 11-26-25; 8:45 am]

BILLING CODE 4410-18-P